DEPARTMENT OF ENERGY

Federal Energy Regulatory Commission

[Docket No. RM16-17-000]

Data Collection for Analytics and Surveillance and Market-Based Rate Purposes; Notice Providing Update on Market-Based Rate Database

On July 18, 2019, the Commission issued a final rule in Docket No. RM16-17-000 that, among other things, adopted a proposal to collect market-based rate information through a relational database (MBR Database).¹ The final rule indicated that:

¹ Data Collection for Analytics and Surveillance and Market-Based Rate Purposes, Order No. 860, 168 FERC 61,039 (2019).

After issuance of this final rule, documentation for the relational database will be posted to the Commission's website, including XML, XSD, the MBR Data Dictionary, and a test environment user guide. Additionally, after issuance of this final rule, a basic relational database test environment will be available to submitters and software developers. The Commission intends to add to the new test environment features on a prioritized, scheduled basis until complete. We note that the Commission will inform the public of when releases will be made publicly available. This will allow internal and external development to occur contemporaneously as new features are made available for outside testing.²

² Id. P 309.

Consistent with the final rule, please be advised that updated versions of the XML, XSD, and MBR Data Dictionary are available on the Commission's website.

Additionally, please be advised that the test environment for the MBR Database is now available and can be accessed on the MBR Database web page. At launch, this test environment will be available to users that are eRegistered with the Commission. eRegistered users will be able to submit test XML submissions into the database, as well as create FERC generated IDs (GID) and Asset IDs. Please note that this is a test environment and that all submissions into the database—specifically XMLs and all created GIDs and Asset IDs—will not be part of the official record and will be cleared from the database before it officially goes live. Further, as indicated in the final rule, the Commission intends to add features to this test environment periodically until complete.³ Interested parties can obtain notice of these new features by monitoring the market-based rate page on the Commission's website. The Commission will issue an additional notice prior to clearing the database shortly before the database goes live.

³ Id.

Lastly, please be advised that Company Registration has been updated to reflect MBR as a filing type. Unlike GIDs and Asset IDs, any updates to Company Registration will remain permanent. Entities that will need to make submissions to the database (i.e., all entities that have market-based rate authority) must include MBR as a filing type and assign account managers to make the submissions.

For more information about the MBR Database, please send an email to MBRDatabase@ferc.gov.

Dated: January 10, 2020.
Kimberly D. Bose,
Secretary.

[FR Doc. 2020-00622 Filed 1-15-20; 8:45 am]

BILLING CODE 6717-01-P